DEPARTMENT OF THE INTERIOR

National Park Service

[NPS-WASO-NAGPRA-19251; PPWOCRADN0-PCU00RP14.R50000]

Notice of Inventory Completion: U.S. Department of Defense, Army Corps of Engineers, Omaha District, Omaha, NE., and State Archaeological Research Center, Rapid City, SD

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by November 2, 2015.

ADDRESSES: Ms. Sandra Barnum, U.S. Army Engineer District, Omaha, ATTN: CENWO-PM-AB, 1616 Capitol Ave., Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains and associated funerary objects under the control of the Omaha District. The human remains and associated funerary objects were removed from the Akichita site (39BF221), Buffalo County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by State Archaeological Research Center and Omaha District professional staff in consultation with representatives of the Yankton Sioux Tribe of South Dakota.

History and Description of the Remains

Human remains that were excavated from Akichita Site (39BF0221) are presently located at the South Dakota State Archaeological Research Center (SARC).

In 1962, human remains representing, at minimum, four individuals were removed from the historic component of the Akichita site (39BF221) in Buffalo County, SD. The human remains were collected during a salvage excavation at the site under the direction of Robert Gant, State Archaeological Commission, Vermillion, SD. The human remains and funerary objects were transported to the Commission's office at the W.H. Over Museum, Vermillion, SD.

In 1974, the collections were transferred to the newly established SARC. The human remains were then transferred to the University of Tennessee-Knoxville to be inventoried by Dr. William Bass.

When the human remains were returned to the SARC in the 1980s, what was believed to be all of the human remains were repatriated to Frank Fools Crow, Oglala Lakota Nation.

In 1999, SARC conducted a review of the remaining 39BF221 collection and located fragments of human remains from these burials along with 95 funerary objects. These additional human remains are from all four individuals, an adult male, two children, and an infant. No known individuals were identified. The associated funerary objects are 2 lots of white shell tubular wampum beads; 7 white glass tubular beads; 2 pieces of textile; 4 fragments of red silk ribbon; 1 fragment of fabric with glass beads attached; 2 unmodified faunal bones; 3 lots of wood coffin planking and wood coffin fragments; 25 metal coffin nails; 2 secondary flakes; 7 fragments of shoe leather; 39 brass oval hawk bells with textile fragments; and 1 incomplete china doll (“Frozen Charlotte” doll).

The human remains were collected from coffin burials in the historic component of the site. The human remains are determined to be Native American based on the associated burial objects and history of the site as associated with a Native American cemetery. The funerary objects associated with the burials, as well as the types of nails used for the coffins, dates the burials between 1860 and 1890. It is likely the Akichita site is associated with the historic Native American cemetery near the old townsite of Fort Thompson. This townsite and cemetery was occupied beginning around 1866. Between 1866 and 1890, the Yanktonai tribe was the majority population in the area, and the cemetery near Fort Thompson is associated with the Yanktonai. It is believed that 39BF221 is also associated with the Yanktonai. The Yanktonai are represented today by the Yankton Sioux Tribe of South Dakota.

Determinations Made by the U.S. Army Corps of Engineers, Omaha District

Officials of the U.S. Army Corps of Engineers, Omaha District have determined that:

• Pursuant to 25 U.S.C. 3001(9), the human remains described in this notice represent the physical remains of four individuals of Native American ancestry.

• Pursuant to 25 U.S.C. 3001(3)(A), the 92 objects described in this notice are reasonably believed to have been placed with or near individual human remains at the time of death or later as part of the death rite or ceremony.

• Pursuant to 25 U.S.C. 3001(2), there is a relationship of shared group identity that can be reasonably traced between the Native American human remains and associated funerary objects and the Yankton Sioux Tribe of South Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capitol Ave., Omaha, NE 68102, telephone, (402) 995-2674, email sandra.v.barnum@usace.army.mil, by November 2, 2015. After that date, if no additional requestors have come forward, transfer of control of the human remains and associated funerary objects to the Yankton Sioux Tribe of South Dakota may proceed.

The U.S. Army Corps of Engineers, Omaha District is responsible for notifying the Yankton Sioux Tribe of South Dakota that this notice has been published.

Dated: September 8, 2015.
Melanie O'Brien,
Manager, National NAGPRA Program.

[FR Doc. 2015-25051 Filed 9-30-15; 8:45 am]

BILLING CODE 4312-50-P